POSTAL RATE COMMISSION

Briefings on International Mail and FY 2005 Cost and Revenue Analysis

AGENCY: Postal Rate Commission.

ACTION: Notice of briefings.

SUMMARY: The Commission will host two briefings on March 1, 2006. One will address a study of postal volume growth in developing countries. The other will address the effect of certain data collection design changes on a major Postal Service annual financial report. These briefings will provide an open forum for the presentation of information of interest to the postal community and the general public.

SUPPLEMENTARY INFORMATION: The first briefing will be presented by an economist in the Universal Postal Union's International Bureau, who will address the preliminary results of a study of factors that contribute to postal volume growth in developing countries. This briefing will also address the reasons why factors that affect postal volume growth in industrialized countries do not seem to have much effect in developing countries. This briefing will begin at 10 a.m. in the Commission's hearing room.

The second briefing will be presented by Postal Service Headquarters personnel. It will explain the impact of extensive changes in the design of the Service's In-Office Cost System data collection effort on the most recent (fiscal year 2005) Cost and Revenue Analysis. This briefing will begin at 2 p.m. in the Commission's hearing room.

DATES: March 1, 2006.

ADDRESSES: Postal Rate Commission, 901 New York Ave., NW., Suite 200, Washington, DC 20288-0001.

FOR FURTHER INFORMATION CONTACT: Stephen L. Sharfman, General Counsel, 202-789-6820.

Steven W. Williams,
Secretary.

[FR Doc. 06-1857 Filed 2-27-06; 8:45 am]

BILLING CODE 7710-FW-M